NUCLEAR REGULATORY COMMISSION

Agency Information Collection Activities: Proposed Collection: Comment Request

AGENCY: U.S. Nuclear Regulatory Commission (NRC)

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: NRC Survey of Public Response to Emergencies.

2. Current OMB approval number: 3150-XXXX (New Collection).

3. How often the collection is required: This is a one-time collection.

4. Who is required or asked to report: Members of the public that reside within 10 mile Emergency Planning Zones of nuclear power plant.

5. The estimated number of annual respondents: This is a one-time collection of 800 completed surveys.

6. The number of hours needed annually to complete the requirement or request:

One-time event. 277 hours ((completed surveys 800 × .333 hrs per response = 267 hrs) + (uncompleted surveys 120 × .083 hrs per response = 10 hrs)).

7. Abstract: As part of NRC's effort to review and improve emergency response program areas, a telephone survey will be conducted to assess the satisfaction of the pubic with existing protective action strategies, the effectiveness in which these strategies are conveyed to the public, and the public response to the possibility of modifying protection action strategies. The survey will produce statistical descriptions of customer satisfaction and acceptance of emergency response planning and protective actions. The response to the surveys will be used by the NRC in the development of new or modified protective action strategies including the types of strategies implemented and the means for which the information on protective actions may be disseminated to the public. The response may also support quality improvement in the existing emergency planning information in other areas indirectly related to protective actions.

Submit, by July 2, 2007, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Margaret A. Janney, U.S. Nuclear Regulatory Commission, T-5 F52, Washington, DC 20555-0001, by telephone at 301-415-7245, or by Internet electronic mail to INFOCOLLECTS@NRC.GOV.

Dated at Rockville, Maryland, this 26th day of April, 2007.
For the Nuclear Regulatory Commission.
Margaret A. Janney,
NRC Clearance Officer, Office of Information Services.

[FR Doc. E7-8438 Filed 5-2-07; 8:45 am]

BILLING CODE 7590-01-P